DEPARTMENT OF ENERGY

Federal Energy Regulatory Commission

[Docket No. QF82-190-000, et al.]

SBR Associates and Ogden Haverhill Associates, et al.; Electric Rate and Corporate Regulation Filings

May 23, 2000.

Take notice that the following filings have been made with the Commission:

1. SBR Associates and Ogden Haverhill Associates

[Docket No. QF82-190-000]

Take notice that on May 15, 2000, SBR Associates and Ogden Haverhill Associates filed a Notice of Withdrawal of their January 29, 1999 Application for Recertification in the above-referenced proceeding.

Comment date: June 14, 2000, in accordance with Standard Paragraph E at the end of this notice.

2. O.L.S. Energy-Chino

[Docket No. QF84-443-004]

Take notice that on May 18, 2000, O.L.S. Energy-Chino, c/o Delta Power Company, LLC, 89 Headquarters Plaza, North Tower, 14th Floor, Morristown, NJ 07960 filed with the Federal Energy Regulatory Commission an application for recertification of a facility as a qualifying cogeneration facility pursuant to Section 292.207(b) of the Commission's regulations.

The Facility is a topping cycle cogeneration facility consisting of one GE Model LM2500 gas turbine in combined cycle configuration. The Facility is interconnected with, sells power to and receives backup and maintenance power from Southern California Edison Company. Recertification of the Facility is being requested by Applicant to reflect recent changes in the ownership structure of the Facility.

Comment date: June 19, 2000, in accordance with Standard Paragraph E at the end of this notice.

3. O.L.S. Energy-Camarillo

[Docket No. QF84-447-004]

Take notice that on May 18, 2000, O.L.S. Energy-Camarillo, c/o Delta Power Company, LLC, 89 Headquarters Plaza, North Tower, 14th Floor, Morristown, NJ 07960 filed with the Federal Energy Regulatory Commission an application for recertification of a facility as a qualifying cogeneration facility pursuant to Section 292.207(b) of the Commission's regulations.

The Facility is a topping cycle cogeneration facility consisting of one GE Model LM2500 gas turbine in combined cycle configuration. The Facility is interconnected with, sells power to and receives backup and maintenance power from Southern California Edison Company. Recertification of the Facility is being requested by Applicant to reflect recent changes in the ownership structure of the Facility.

Comment date: June 19, 2000, in accordance with Standard Paragraph E at the end of this notice.

4. Vineland Cogeneration Limited Partnership

[Docket No. QF90-176-002]

Take notice that on May 16, 2000, Vineland Cogeneration Limited Partnership, 536 West Elmer Road, Vineland, NJ 08360, filed with the Federal Energy Regulatory Commission an application for recertification of a facility as a qualifying cogeneration facility pursuant to Section 292.207(b) of the Commission's regulations. No determination has been made that the submittal constitutes a complete filing.

The Commission previously certified the facility as a qualifying cogeneration facility in Docket No. QF90-176-001. Recertification is sought to reflect a change in the upstream ownership interests in the facility.

The facility is an approximately 46.6 MW (net0 topping-cycle cogeneration facility located in Vineland, New Jersey. The facility is interconnected with and supplied electric power to the Vineland Municipal Electric Utility.

Comment date: June 15, 2000, in accordance with Standard Paragraph E at the end of this notice.

5. Gregory Power Partners, L.P.

[Docket No. QF99-32-002]

Take notice that on May 16, 2000, Gregory Power Partners, LP, Old Town Square, Suite 130, 1 Chishom Trail, Round Rock, Texas 78664, filed with the Federal Energy Regulatory Commission an application for recertification of a facility as a qualifying cogeneration facility pursuant to Section 292.207(b) of the Commission's regulations. No determination has been made that the submittal constitutes a complete filing.

The Commission previously certified the facility as a qualifying cogeneration facility on April 12, 1999 in Docket No. QF99-32-000. On April 26, 2000, Applicant filed a Notice of Self-Recertification in Docket No. QF99-32-001. Recertification is sought to reflect a change in the upstream ownership interests in the facility, to inform the Commission of additional contracts with purchasers of the Facility's output, to update and clarify the ownership and description of certain on-site interconnection facilities and to report a contract for energy management services.

The facility is an approximately 427 MW (net) topping-cycle cogeneration facility located in Gregory, Texas. The facility is interconnected with Central Power & Light Company.

Comment date: June 15, 2000, in accordance with Standard Paragraph E at the end of this notice.

6. Ameren Services Company

[Docket No. ER00-1761-001]

Take notice that on May 18, 2000, Ameren Services Company (ASC), tendered for filing an executed Network Integration Transmission Service Agreement and an executed Network Operating Agreement, between ASC and the City of Owensville. ASC asserts that the purpose of the agreements is to permit ASC to provide service over its transmission and distribution facilities to the City of Owensville pursuant to the Ameren Open Access Tariff. The executed agreements supersede an unexecuted Network Service Agreement and an unexecuted Network Operating Agreement previously filed on March 1, 2000.

Comment date: June 8, 2000, in accordance with Standard Paragraph E at the end of this notice.

7. Pacific Gas and Electric Company

[Docket No. ER00-2360-001]

Take notice that on May 16, 2000, Pacific Gas and Electric Company (PG&E), tendered for filing a new Reliability Services Tariff and corresponding amendments to its Transmission Owner (TO) tariff, originally filed with the Commission on April 28, 2000 in Docket No. ER00-2360-000.

Comment date: June 6, 2000, in accordance with Standard Paragraph E at the end of this notice.

8. Baconton Power LLC

[Docket No. ER00-2534-000]

Take notice that on May 17, 2000, Baconton Power LLC (Baconton), tendered for filing, pursuant to Section 205 of the Federal Power Act, a certificate of concurrence with respect to SOWEGA Power LLC's (SOWEGA Power) filing of a Common Bus Ownership Agreement between SOWEGA Power and Baconton. The agreement concerns ownership interests in certain 230 kV bus facilities on the plant site shared by SOWEGA Power and Baconton that are used to connect the generators to Georgia Transmission Corporation.

Comment date: June 7, 2000, in accordance with Standard Paragraph E at the end of this notice.

9. Commonwealth Edison Company

[Docket No. ER00-2536-000]

Take notice that on May 18, 2000, Commonwealth Edison Company (ComEd) submitted for filing two Short-Term Firm Transmission Service Agreements (Agreement) establishing MidAmerican Energy Company (MEC), and Avista Energy, Inc. (Avista), as short-term firm customers under the terms of ComEd's OATT.

ComEd requests an effective date of December 9, 1999 to coincide with the first day of service to MEC under this type of Service Agreement, and an effective date of July 3, 1999 to coincide with the first day of service to Avista under this type of Service Agreement.

Copies of this filing were served on MEC and Avista.

Comment date: June 8, 2000, in accordance with Standard Paragraph E at the end of this notice.

10. PPL Electric Utilities Corporation

[Docket No. ER00-2537-000]

Take notice that on May 18, 2000, PPL Electric Utilities Corporation (PPL Utilities), tendered for filing a Power Sales Agreement between PPL Utilities and PPL EnergyPlus, LLC.

PPL Utilities has served a copy of this filing on PPL EnergyPlus, LLC.

Comment date: June 8, 2000, in accordance with Standard Paragraph E at the end of this notice.

11. New York State Electric & Gas Corporation

[Docket No. ER00-2539-000]

Take notice that on May 18, 2000, New York State Electric & Gas Corporation (NYSEG), tendered for filing pursuant to Part 35 of the Federal Energy Regulatory Commission's Rules of Practice and Procedure, 18 CFR 35, a service agreement (the Service Agreement) under which NYSEG may provide capacity and/or energy to the County of Erie (County) in accordance with NYSEG's FERC Electric Tariff, Original Volume No. 3.

NYSEG has requested waiver of the notice requirements so that the Service Agreement becomes effective as of May 19, 2000.

NYSEG has served copies of the filing upon the New York State Public Service Commission and County.

Comment date: June 8, 2000, in accordance with Standard Paragraph E at the end of this notice.

12. PPL Electric Utilities Corporation

[Docket No. ER00-2540-000]

Take notice that on May 18, 2000, PPL Electric Utilities Corporation d/b/a PPL Utilities (formerly known as PP&L, Inc.) (PPL), tendered for filing a Service Agreement dated April 20, 2000 with Cargill-Alliant, LLC (Cargill) under PPL's Market-Based Rate and Resale of Transmission Rights Tariff, FERC Electric Tariff, Revised Volume No. 5. The Service Agreement adds Cargill as an eligible customer under the Tariff.

PPL requests an effective date of May 18, 2000, for the Service Agreement.

PPL states that copies of this filing have been supplied to Cargill and to the Pennsylvania Public Utility Commission.

Comment date: June 8, 2000, in accordance with Standard Paragraph E at the end of this notice.

13. Allegheny Energy Service Corporation, on behalf of Allegheny Energy Supply Company LLC

[Docket No. ER00-2541-000]

Take notice that on May 18, 2000, Allegheny Energy Service Corporation on behalf of Allegheny Energy Supply Company, LLC (Allegheny Energy Supply Company), tendered for filing Amendment No. 1 to Supplement No. 11 to complete the filing requirement for one (1) new Customer of the Market Rate Tariff under which Allegheny Energy Supply offers generation services.

Allegheny Energy requests a waiver of notice requirements to make service available as of December 1, 1999 to PG&E Energy Trading—Power, L.P.

Copies of the filing have been provided to the Public Utilities Commission of Ohio, the Pennsylvania Public Utility Commission, the Maryland Public Service Commission, the Virginia State Corporation Commission, the West Virginia Public Service Commission, and all parties of record.

Comment date: June 8, 2000, in accordance with Standard Paragraph E at the end of this notice.

14. California Independent System Operator Corporation

[Docket No. ER00-2542-000]

Take notice that on May 8, 2000, the California Independent System Operator Corporation (ISO), tendered for filing a Meter Service Agreement for Scheduling Coordinators between the ISO and PG&E Energy Trading—Power, L.P. for acceptance by the Commission.

The ISO states that this filing has been served on PG&E Energy Trading—Power, L.P., and the California Public Utilities Commission.

The ISO is requesting waiver of the 60-day notice requirement to allow the Meter Service Agreement to be made effective as of April 26, 2000.

Comment date: June 8, 2000, in accordance with Standard Paragraph E at the end of this notice.

15. California Independent System Operator Corporation

[Docket No. ER00-2543-000]

Take notice that on May 18, 2000, the California Independent System Operator Corporation, tendered for filing a Participating Generator Agreement between the ISO and Nuevo Energy Company for acceptance by the Commission.

The ISO states that this filing has been served on Nuevo Energy Company and the California Public Utilities Commission.

The ISO is requesting waiver of the 60-day notice requirement to allow the Participating Generator Agreement to be made effective May 12, 2000.

Comment date: June 8, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-13489 Filed 5-30-00; 8:45 am]

BILLING CODE 6717-01-P